NATIONAL SCIENCE FOUNDATION

Measuring the Impact of Digital Repositories

AGENCY: The National Coordination Office (NCO) for Networking and Information Technology Research and Development (NITRD).

ACTION: Request for public comment.

SUMMARY: Representatives from Federal research agencies, academia and the private sector will identify the current metrics, tools and practices that are effective, and the issues that will require additional research.

DATES: February 28-March 1, 2017.

FOR FURTHER INFORMATION, CONTACT: Wendy Wigen at 703-292-4873 or wigen@nitrd.gov. Individuals who use a telecommunications device for the deaf (TDD) may call the Federal Information Relay Service (FIRS) at 1-800-877-8339 between 8 a.m. and 8 p.m., Eastern time, Monday through Friday.

SUPPLEMENTARY INFORMATION:

Overview: This notice is issued by the National Coordination Office for the Networking and Information Technology Research and Development (NITRD) Program. Agencies of the NITRD Program are holding a workshop of experts from government, private industry, and academia to help identify the current metrics, tools and practices that are effective, and the issues that will require additional research in order to measure the impact of digital repositories. The workshop will take place on February 28 from 8:30 a.m. to 5:00 p.m. ET and continue on March 1 from 8:00 a.m. 12:15 p.m. ET at the National Science Foundation, 4201 Wilson Blvd. Arlington, VA 22230. This event will be available on webcast. The event agenda and information about the webcast will be available the week of the event at: https://www.nitrd.gov/nitrdgroups/index.php?title=DigitalRepositories.

Workshop Goal: Managers, funders, and users of digital data repositories are interested in assessing and communicating the impact of such repositories. A systematic approach and well-understood metrics, that may be quantitative or qualitative in nature, are needed to determine “impact.” The goal of this workshop is to identify the current metrics, tools and practices that are effective, and the issues that will require additional research.

Workshop Objectives: The objectives of the workshop include the following: Identify current metrics, tools, and methodologies for assessing and communicating the impact of digital repositories (DRs); identify technical, social and financial obstacle; and synthesize the results into a set of best practices for both near and long term success. In addition, a list of ideas (research and resources) that could accelerate the creation and adoption of high quality evaluation criteria will be developed.

Submitted by the National Science Foundation for the National Coordination Office (NCO) for Networking and Information Technology Research and Development (NITRD) on February 1, 2017.

Suzanne H. Plimpton,
Reports Clearance Officer, National Science Foundation.

[FR Doc. 2017-02387 Filed 2-3-17; 8:45 am]

BILLING CODE 7555-01-P